DEPARTMENT OF DEFENSE

Office of the Secretary

32 CFR Part 246

[Docket ID: DOD-2023-OS-0058]

RIN 0790-AL63

Stars and Stripes Media Organization

AGENCY: Assistant to the Secretary of Defense for Public Affairs, Department of Defense (DoD).

ACTION: Proposed rule.

SUMMARY: This rulemaking proposes to update authorities and responsibilities for the Stars and Stripes Media Organization (often abbreviated as Stripes) to reaffirm its editorial independence in providing media products not only to military service members and DoD civilian employees, but to U.S. veterans, families of veterans and current service members, and contractor personnel, particularly those serving overseas, based on changes in the consumption of news and information in a digital age. It additionally proposes to remove internal operational procedures of the Stars and Stripes Media Organization that do not require rulemaking under the Administrative Procedure Act.

DATES: Comments must be received by June 24, 2024.

ADDRESSES: You may submit comments, identified by docket number and/or Regulation Identifier Number (RIN) number and title, by any of the following methods:

• Federal Rulemaking Portal: http://www.regulations.gov. Follow the instructions for submitting comments.

• Mail: Department of Defense, Office of the Assistant to the Secretary of Defense for Privacy, Civil Liberties, and Transparency, 4800 Mark Center Drive, Mailbox #24, Suite 08D09, Alexandria, VA 22350-1700.

Instructions: All submissions received must include the agency name and docket number or RIN for this Federal Register document. The general policy for comments and other submissions from members of the public is to make these submissions available for public viewing on the internet at http://www.regulations.gov as they are received without change, including any personal identifiers or contact information.

FOR FURTHER INFORMATION CONTACT: Kyle Combs, 703-695-6290.

SUPPLEMENTARY INFORMATION:

I. Background

A. Statement of Need for This Rulemaking

This rulemaking update will clarify and reaffirm Stripes' authorities and responsibilities as the only DoD-authorized organization to provide First Amendment-type reporting and editorially independent media products for the benefit of the U.S. military community, including veterans, families of veterans and current service members, and contractor personnel, as well as current service members and DoD civilian employees, and remove those elements from the CFR that do not require rulemaking because they constitute internal management procedures. This update will also reflect the shift of Stripes from a print-first to digital-first media organization, as consumption of information has evolved in a digital age and media competition has increased. Stripes provides a reliable source of commercially available U.S. and world news and original news stories developed through first-hand reporting by Stripes staff from bases around the world that is accurate, fair, impartial, credible, and editorially independent of the military chain of command and military public affairs activities. By keeping its audience informed, Stripes provides news of interest to the U.S. military community that enables them to exercise their responsibilities of citizenship.

This rulemaking reaffirms Stripes operating as a nonappropriated fund instrumentality, a government entity established for military morale, welfare, and recreation of the U.S. military community that may both generate revenue and receive appropriated fund support consistent with its mission and applicable policy. Stripes is to be funded to the maximum extent possible through the sale and distribution of the newspapers, other products, authorized advertising, and other sources of revenue, as approved by the DoD and the Congress.

This rulemaking also reaffirms the Stripes Ombudsman position and purpose, in accordance with the Fiscal Years 1990-91 National Defense Authorization Act House Committee on Armed Services Report, which requested the establishment of the Ombudsman position and that the Ombudsman report to the DoD and annually to the House Armed Services Committee on the state of the free flow of information to the Armed Forces via Stripes. The ombudsman position defends the independence of Stripes on behalf of its readers by ensuring that the Stripes newsroom is free from command interference or censorship. The position ensures that the newsroom upholds accuracy, fairness, and independence.

B. Legal Authority

Section 113 of Title 10, U.S.C., provides the Secretary of Defense, subject to the direction of the President, authority, direction, and control over the DoD. 10 U.S.C. 191 and 192 provide authority to the Secretary of Defense to establish Defense Agencies and Field Activities to provide common services to the Military Departments and provide for their supervision when such action would be more effective, economical, or efficient. The Defense Media Activity is presently the Defense Field Activity to which Stripes belongs. Stripes is a DoD organization providing First Amendment-type reporting that allows for a free flow of news information so that service members in all Military Departments and Services may stay informed of current events and issues to support exercise of their responsibilities of citizenship, especially where commercial news sources have limited incentives to report or distribute. Funded partly with appropriated funds and partly with nonappropriated funds, Stripes operates as a nonappropriated fund instrumentality and supports the morale, welfare, and readiness of the U.S. military community by providing a reliable source of accurate, fair impartial, and credible news to its audience, consistent with 10 U.S.C. 136, Under Secretary of Defense for Personnel and Readiness, and DoD Instructions 1015.08, “DoD Civilian Employee Morale, Welfare, and Recreation (MWR) Activities and Supporting Nonappropriated Fund Instrumentalities (NAFI)” (available at https://www.esd.whs.mil/Portals/54/Documents/DD/issuances/dodi/101508p.pdf); 1015.10, “Military Morale, Welfare, and Recreation (MWR) Programs” (available at https://www.esd.whs.mil/Portals/54/Documents/DD/issuances/dodi/101510p.pdf?ver=2019-04-08-125319-650), and 1015.15, “Establishment, Management, and Control of Nonappropriated Fund Instrumentalities and Financial Management of Supporting Resources” (available at https://www.esd.whs.mil/Portals/54/Documents/DD/issuances/dodi/101515p.pdf?ver=2019-04-08-125317-820).

C. Regulatory History

This regulation, 32 CFR part 246, was previously published in the Federal Register (59 FR 19137) on April 22, 1994, and included DoD policy and internal procedures concerning the Stars and Stripes newspapers and business operations at the time. Since 1994, the regulation has had minor administrative updates, but does not presently reflect the changes in consumption of news and information in a digital age.

DoD is now proposing revising this regulation to reflect current policies concerning those portions of the Stripes mission discussed in this preamble. This revision also removes information that is not necessary for inclusion in the CFR, consistent with the Administrative Procedure Act. Internal policies and procedures will remain in DoD Directive (DoDD) 5122.11, “Stars and Stripes (S&S) Newspapers and Business Operations (available at https://www.esd.whs.mil/Portals/54/Documents/DD/issuances/dodd/512211p.pdf).

II. Impact of This Regulation

The updates to this rule are administrative in nature with no requirements of the public; therefore, the costs are nominal. Stripes content is to be provided at reasonable cost to the U.S. military community, comparable to the retail sales price of similar commercial newspapers throughout the United States, to ensure greatest access for its audience. Some advertiser-supported information is distributed to all readers at no cost. Stripes partially funds its mission in support of DoD through revenue-generating activities as a nonappropriated fund instrumentality. Stripes is also authorized appropriated funding, but Stripes is to be funded to the maximum extent possible through the sale and distribution of the newspapers, other products, authorized advertising, and other sources of revenue, as approved by the DoD and the Congress.

III. Regulatory Compliance Analysis

A. Executive Order 12866, “Regulatory Planning and Review” and Executive Order 13563, “Improving Regulation and Regulatory Review”

These Executive Orders direct agencies to assess all costs, benefits and available regulatory alternatives and, if regulation is necessary, to select regulatory approaches that maximize net benefits (including potential economic, environmental, public health, safety effects, distributive impacts, and equity). These Executive Orders emphasize the importance of quantifying both costs and benefits, of reducing costs, of harmonizing rules, and of promoting flexibility. This rule has been designated not significant, under section 3(f) of Executive Order 12866, as amended by Executive Order 14094. This rule revision highlights areas of public interest regarding Stripes' editorial independence, but it removes internal procedures that do not have external burden or implications. This rule does not have direct economic, environmental, public health, safety, distributive, or equity impacts.

B. Congressional Review Act (5 U.S.C. 801 et seq.)

Pursuant to the Congressional Review Act, this rule has not been designated a major rule, as defined by 5 U.S.C. 804(2). This rule does not have an annual effect on the economy of $100,000,000 or more; a major increase in costs or prices for consumers, individual industries, Federal, State, or local government agencies, or geographic regions; or significant adverse effects on competition, employment, investment, productivity, innovation, or on the ability of United States-based enterprises to compete with foreign-based enterprises in domestic and export market.

C. Public Law 96-354, “Regulatory Flexibility Act” (5 U.S.C. 601 et seq.)

The Assistant to the Secretary of Defense for Public Affairs certified that this rule is not subject to the Regulatory Flexibility Act (5 U.S.C. 601 et seq.) because the rule only addresses the operations of Stripes, and it would not, if promulgated, have a significant economic impact on a substantial number of small entities. Therefore, the Regulatory Flexibility Act, as amended, does not require us to prepare a regulatory flexibility analysis.

D. Sec. 202, Public Law 104-4, “Unfunded Mandates Reform Act”

Section 202 of the Unfunded Mandates Reform Act of 1995 (2 U.S.C. 1532) requires agencies to assess anticipated costs and benefits before issuing any rule whose mandates require spending in any 1 year of $100 million in 1995 dollars, updated annually for inflation. This rule will not mandate any requirements for state, local, or tribal governments, and will not affect private sector costs.

E. Public Law 96-511, “Paperwork Reduction Act” (44 U.S.C. Chapter 35)

It has been determined that this rule does not impose reporting or recordkeeping requirements under the Paperwork Reduction Act of 1995.

F. Executive Order 13132, “Federalism”

Executive Order 13132 establishes certain requirements that an agency must meet when it promulgates a rule that has Federalism implications, imposes substantial direct requirement costs on State and local governments, and is not required by statute, or has Federalism implications and preempts State law. This rule will not have a substantial effect on State and local governments.

G. Executive Order 13175, “Consultation and Coordination With Indian Tribal Governments”

Executive Order 13175 establishes certain requirements that an agency must meet when it promulgates a proposed rule that imposes substantial direct compliance costs on one or more Indian tribes, preempts tribal law, or affects the distribution of power and responsibilities between the Federal government and Indian tribes. This rule will not have a substantial effect on Indian tribal governments.

List of Subjects in 32 CFR Part 246, Government publications, Newspapers, and magazines.

Accordingly, 32 CFR part 246 is proposed to be revised to read as follows:

PART 246—STARS AND STRIPES MEDIA ORGANIZATION

Sec.
246.1 Purpose.
246.2 Definitions.
246.3 Policy.
Appendix A to Part 246—Related Policies

Authority: 10 U.S.C. 113, 136, 191-192.

§ 246.1 Purpose.

This part clarifies and reaffirms the Stars and Stripes (Stripes) Media Organization authorities and responsibilities to provide editorially independent media products and services.

§ 246.2 Definitions.

These terms and their definitions are for the purposes of this part.

(a) Stars and Stripes Media Organization. Stripes Media Organization is a DoD-authorized, multi-platform, global source of independent news and information organization serving the U.S. military community, especially overseas. It provides a reliable source of commercially available U.S. and world news and original news stories developed through first-hand reporting by Stripes' staff from bases around the world that is objective, credible, and editorially independent of the military chain of command and military public affairs activities. Stripes also covers news of local or host-country conditions relevant to the U.S. military community and other content of interest to their readership that generally receives only limited coverage, if any, from commercial sources.

(b) Stripes media products and services. Stripes media products and services are unofficial DoD multimedia products and services that provide current U.S. and world news, opinion, and other content of general interest to members of the U.S. military community. Products and services are provided to enhance morale, military readiness, and awareness of matters of particular interest to them as members of the U.S. military community, maintain their connection to American society, and assist them in continued exercise of their rights and obligations of citizenship.

(c) Stripes Ombudsman. The Stripes Ombudsman is a highly qualified independent news media professional hired from outside of the DoD to serve a three-year term. The Stripes Ombudsman independently advises the Stripes Publisher and senior editorial leaders, DoD leadership and congressional oversight authorities on matters relating to audience interests, journalistic practices, editorial interference, news management, or censorship.

(d) Stripes Publisher. The senior position in the Stripes Media Organization. This civilian government employee is a highly qualified independent news media professional who manages and controls the day-to-day business and financial, operational, and administrative activities, and provides editorial oversight of Stripes.

§ 246.3 Policy.

It is DoD policy that:

(a) The Stars and Stripes Media Organization publishes accurate, fair, impartial, and credible news and information for the benefit and specific interest to the U.S. military community, especially those serving overseas, including DoD civilian and military personnel, contractor personnel, veterans, and their families.

(b) Stripes' content is to be provided at reasonable cost to the U.S. military community, comparable to the retail sales price of similar commercial news and information content throughout the United States, to ensure the greatest access for its audience.

(c) Stripes' editorial operations are independent of the military chain of command, military public affairs activities, or other external influences, and without censorship, inappropriate news management, or propaganda, but they fully comply with the policies and procedures that prevent the disclosure of information that is classified national security information or controlled unclassified information, would adversely affect national security, or clearly endanger the lives of U.S. personnel in accordance with the DoD authorities in paragraphs (a) through (e) of appendix A of this part and applicable laws, regulations, and Government-wide policies.

(d) Stripes' editorial policies and practices will be in keeping with journalistic standards of U.S. commercial news organizations of the highest quality, such as the Code of Ethics of the Society of Professional Journalists (available at http://www.spj.org/ethicscode.asp).

(e) Stripes' products and services may not advance a specific editorial position, point of view or particular interest, but will present a wide range of news and views, including coverage of U.S. political campaigns in an impartial, objective, and nonpartisan manner that does not imply endorsement of any candidate or political party.

(f) Stripes' products and services are unofficial and do not reflect the official views of, or endorsement by, the U.S. Government, the DoD, or subordinate command authorities.

(g) Stripes' reporters and editorial staff are DoD personnel authorized to gather and report news, good and bad, about the DoD and the U.S. military community. They may ask questions of DoD officials, gain help, have access, and attend gatherings or events available to reporters from the commercial media. Stripes reporters with access to DoD installations (because of their status as DoD personnel) may cover events or activities open to those with installation access even though commercial media may not have the same unescorted access; information published about or resulting from such events or activities is still subject to the requirements of paragraph (c) of this section.

(h) Although newsgathering is investigative by nature, Stripes is not an authorized investigative agency, such as a military criminal investigative organization, other DoD investigative body, or an office of Inspector General, and does not conduct official investigations on behalf of DoD. It may, however, report on such official DoD investigations, as well as investigations by outside organizations or commercial media in the public domain (i.e., engage in investigative reporting).

(i) As DoD employees, the Stripes' news staff members must adhere to the DoD personnel policies that may not usually apply to journalists employed by commercial newspapers, including 5 CFR parts 2635 and 3601 and paragraphs (f) and (g) of appendix A of this part, as applicable, and all other applicable DoD policies and Federal laws and regulations as well as any applicable Status of Forces Agreements.

(j) Stripes partially funds its mission in support of DoD through revenue-generating activities as a nonappropriated fund instrumentality, a government entity established for morale, welfare, and recreation that may generate revenue and minimize the need for congressionally appropriated fund support. Stripes is to be funded to the maximum extent possible through the sale and distribution of news and information products, authorized advertising, printing services, and other sources of revenue, as approved by the DoD or Congress. While Stripes is authorized nonappropriated and appropriated funding, appropriated fund support is to be kept to a minimum level consistent with its mission but at levels provided for in paragraph (h) of appendix A of this part. Stripes also may be authorized appropriated funding for news and information production and free distribution to support members of the U.S military community deployed during armed conflict, exercises, or in contingency environments.

Appendix A to Part 246—Related Policies

The Stars and Stripes Media Organization is supported by the following policies:

(a) DoD Instruction 5200.01, “DoD Information Security Program and Protection of Sensitive Compartmented Information (SCI)” (available at https://www.esd.whs.mil/Portals/54/Documents/DD/issuances/dodi/520001p.PDF).

(b) DoD Instruction 5200.48, “Controlled Unclassified Information (CUI)” (available at https://www.esd.whs.mil/Portals/54/Documents/DD/issuances/dodi/520048p.PDF).

(c) DoD Manual 5200.01, Volume 1, “DoD Information Security Program: Overview, Classification, and Declassification” (available at https://www.esd.whs.mil/Portals/54/Documents/DD/issuances/dodm/520001m_vol1.pdf).

(d) DoD Manual 5200.01, Volume 2, “DoD Information Security Program: Marking of Information” (available at https://www.esd.whs.mil/Portals/54/Documents/DD/issuances/dodm/520001m_vol2.pdf).

(e) DoD Manual 5200.01, Volume 3, “DoD Information Security Program: Protection of Classified Information” (available at https://www.esd.whs.mil/Portals/54/Documents/DD/issuances/dodm/520001m_vol3.pdf).

(f) DoD Directive 5500.07, “Standards of Conduct” (available at https://www.esd.whs.mil/Portals/54/Documents/DD/issuances/dodd/550007p.pdf).

(g) Manual for Courts-Martial United States (2019 Edition) (available at https://jsc.defense.gov/Portals/99/Documents/2019%20MCM%20(Final)%20(20190108).pdf).

(h) DoD Instruction 1015.15, “Establishment, Management, and Control of Nonappropriated Fund Instrumentalities and Financial Management of Supporting Resources” (available at https://www.esd.whs.mil/Portals/54/Documents/DD/issuances/dodi/101515p.pdf).

Dated: April 17, 2024.
Aaron T. Siegel,
Alternate OSD Federal Register Liaison Officer, Department of Defense.

[FR Doc. 2024-08527 Filed 4-22-24; 8:45 am]

BILLING CODE 6001-FR-P